DEPARTMENT OF ENERGY

Federal Energy Regulatory Commission

Combined Notice of Filings #2

Take notice that the Commission received the following electric rate filings:

Docket Numbers: ER10-1777-005; ER10-2983-004; ER10-2980-004.

Applicants: Sundevil Power Holdings, LLC, Castleton Energy Services, LLC, Castleton Power, LLC.

Description: Supplement to July 1, 2013 Updated Market Power Analysis for the Southwest Region of the Wayzata Entities, et al.

Filed Date: 6/24/14.

Accession Number: 20140624-5076.

Comments Due: 5 p.m. ET 7/15/14.

Docket Numbers: ER14-1823-001.

Applicants: Energy Plus Holdings LLC.

Description: Amendment to Tariff Revision Filing to be effective 5/1/2014.

Filed Date: 6/24/14.

Accession Number: 20140624-5096.

Comments Due: 5 p.m. ET 7/15/14.

Docket Numbers: ER14-2210-000; ER14-2211-000; ER14-2212-000; ER14-2213-000; ER14-2214-000; ER14-2215-000.

Applicants: Duke Energy Conesville, LLC.

Description: Supplement to June 18, 2014 Duke Energy Conesville, LLC, et al. tariff filing.

Filed Date: 6/24/14.

Accession Number: 20140624-5057.

Comments Due: 5 p.m. ET 7/15/14.

Docket Numbers: ER14-2251-000.

Applicants: Commonwealth Chesapeake Company LLC.

Description: Tariff Amendment to be effective 6/25/2014.

Filed Date: 6/24/14.

Accession Number: 20140624-5061.

Comments Due: 5 p.m. ET 7/15/14.

Docket Numbers: ER14-2252-000.

Applicants: San Diego Gas & Electric Company.

Description: TO4 Formula Cycle 1 Out-of-Cycle Informational Filing for Expedited Implementation of Refunds to Retail End Use Customers of San Diego Gas & Electric Company.

Filed Date: 6/24/14.

Accession Number: 20140624-5078.

Comments Due: 5 p.m. ET 7/15/14.

Docket Numbers: ER14-2253-000.

Applicants: Morris Cogeneration, LLC.

Description: Tariff Amendment to be effective 6/25/2014.

Filed Date: 6/24/14.

Accession Number: 20140624-5083.

Comments Due: 5 p.m. ET 7/15/14.

Docket Numbers: ER14-2254-000.

Applicants: PJM Interconnection, L.L.C.

Description: Revisions to OATT Att Q re Virtual Transactions Clarification and Waiver Request to be effective 8/25/2014 .

Filed Date: 6/24/14.

Accession Number: 20140624-5084.

Comments Due: 5 p.m. ET 7/15/14.

Docket Numbers: ER14-2255-000.

Applicants: Mehoopany Wind Energy LLC.

Description: Revised Market-Based Rate Tariff to be effective 8/24/2014.

Filed Date: 6/24/14.

Accession Number: 20140624-5091.

Comments Due: 5 p.m. ET 7/15/14.

Docket Numbers: ER14-2256-000.

Applicants: Fowler Ridge II Wind Farm LLC.

Description: Revised Market-Based Rate Tariff to be effective 8/24/2014.

Filed Date: 6/24/14.

Accession Number: 20140624-5093.

Comments Due: 5 p.m. ET 7/15/14.

Docket Numbers: ER14-2257-000.

Applicants: Fowler Ridge III Wind Farm LLC.

Description: Revised Market Based Rate Tariff to be effective 8/24/2014.

Filed Date: 6/24/14.

Accession Number: 20140624-5095.

Comments Due: 5 p.m. ET 7/15/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2014.
Nathaniel J. Davis, Sr.,
Deputy Secretary.

[FR Doc. 2014-15629 Filed 7-2-14; 8:45 am]

BILLING CODE 6717-01-P